DEPARTMENT OF AGRICULTURE

Forest Service

Kenai Peninsula-Anchorage Borough Resource Advisory Committee

AGENCY: Forest Service, USDA.

ACTION: Notice of meeting.

SUMMARY: The Kenai Peninsula-Anchorage Borough Resource Advisory Committee will convene for their first formal meeting in Portage Valley, Alaska, for the purpose of establishing the Committee through the development of bylaws, a chairperson, and a future meeting schedule, under the provisions of Title II of the Secure Rural Schools and Community Self-Determination Act of 2008 (Pub. L. 110-343).

DATES: The meeting will be held on Saturday, June 12, 2010.

ADDRESSES: The meeting will take place at the Begich Boggs Visitor's Center, 800 Portage Lake Loop, Portage, AK 99587.

Send written comments to Kenai Peninsula-Anchorage Borough Resource Advisory Committee, c/o USDA Forest Service, P.O. Box 390, Seward, AK 99664 or electronically to slatimer@fs.fed.us.

FOR FURTHER INFORMATION CONTACT: Travis Moseley, Designated Federal Official, c/o USDA Forest Service, P.O. Box 390, Seward, AK 99664, telephone (907) 288-7730.

SUPPLEMENTARY INFORMATION: The agenda will include background on the provisions of Title II of the Secure Rural Schools and Community Self-Determination Act of 2008 (Pub. L. 110-343) and an overview of the Federal Advisory Committee Act (FACA). In addition, the agenda will include time for the Committee to develop and adopt bylaws, a chairperson, and a future meeting schedule to discuss project proposals.

All Resource Advisory Committee Meetings are open to the public. The public input and comment forum will take place in the afternoon of June 12, 2010. Interested citizens are encouraged to attend.

Dated: May 13, 2010.
Travis Moseley,
District Ranger.

[FR Doc. 2010-12714 Filed 5-27-10; 8:45 am]

BILLING CODE 3410-11-M